DEPARTMENT OF COMMERCE

Notice of Public Meeting of the Advisory Committee on Commercial Remote Sensing

AGENCY: National Oceanic and Atmospheric Administration, U.S. Department of Commerce.

ACTION: Notice of Public Meeting.

SUMMARY: The Advisory Committee on Commercial Remote Sensing (ACCRES) will meet April 28, 2015.

DATES: Date and Time: The meeting is scheduled as follows: April 28, 2015, 9:00 a.m.-4:00 p.m. The first part of the meeting will be closed to the public. The public portion of the meeting will begin at 2:00 p.m.

ADDRESSES: The meeting will be held in the George Washington University Elliott School of International Affairs, Room 505 located at 1957 E St. NW., Washington, DC 20052.

SUPPLEMENTARY INFORMATION: As required by section 10(a)(2) of the Federal Advisory Committee Act, 5 U.S.C. App. (1982), notice is hereby given of the meeting of ACCRES. ACCRES was established by the Secretary of Commerce (Secretary) on May 21, 2002, to advise the Secretary through the Under Secretary of Commerce for Oceans and Atmosphere on long- and short-range strategies for the licensing of commercial remote sensing satellite systems.

Matters To Be Considered

The meeting will be partially open to the public pursuant to Section 10(d) of the Federal Advisory Committee Act, 5 U.S.C. App. 2, as amended by Section 5(c) of the Government in Sunshine Act, Public Law 94-409 and in accordance with Section 552b(c)(1) of Title 5, United States Code.

The Committee will receive a presentation on updates of NOAA's commercial remote sensing issues and licensing activities. The Committee will also receive public comments on its activities.

Special Accommodations

These meetings are physically accessible to people with disabilities. Requests for special accommodations may be directed to ACCRES, NOAA/NESDIS/CRSRA, 1335 East West Highway, Room 8260, Silver Spring, Maryland 20910.

Additional Information and Public Comments

Any member of the public wishing further information concerning the meeting or who wishes to submit oral or written comments should contact Tahara Dawkins, Designated Federal Officer for ACCRES, NOAA/NESDIS/CRSRA, 1335 East West Highway, Room 8136, Silver Spring, Maryland 20910. Copies of the draft meeting agenda can be obtained from Thomas Smith at (301) 713-0573, fax (301) 713-1249, or email thomas.smith@noaa.gov.

The ACCRES expects that public statements presented at its meetings will not be repetitive of previously-submitted oral or written statements. In general, each individual or group making an oral presentation may be limited to a total time of five minutes. Written comments (please provide at least 15 copies) received in the NOAA/NESDIS/CRSRA on or before April 20, 2015, will be provided to Committee members in advance of the meeting. Comments received too close to the meeting date will normally be provided to Committee members at the meeting.

FOR FURTHER INFORMATION CONTACT: Tahara Dawkins, NOAA/NESDIS/CRSRA, 1335 East West Highway, Room 8260, Silver Spring, Maryland 20910; telephone (301) 713-3385, fax (301) 713-1249, email Tahara.Dawkins@noaa.gov, or Thomas Smith at telephone (301) 713-0573, email Thomas.Smith@noaa.gov.

Tahara D. Dawkins,
Director Commercial Remote Sensing and Regulatory Affairs.

[FR Doc. 2015-05698 Filed 3-12-15; 8:45 am]

BILLING CODE 3510-HR-P